COMMISSION ON CIVIL RIGHTS

Agenda and Notice of Public Meeting of the Florida Advisory Committee

Notice is hereby given, pursuant to the provisions of the rules and regulations of the U.S. Commission on Civil Rights, that a community forum and planning meeting of the Florida Advisory Committee to the Commission will convene at 10:00 a.m. and adjourn at 1:00 p.m. on March 26, 2002, at the Sheraton Biscayne Bay, 459 Brickell Avenue, Miami, Florida 33131. The Committee will hold a community forum on Muslim and Arab American civil rights post 9/11, and develop program plans for a June 2002 meeting.

Persons desiring additional information, or planning a presentation to the Committee, should contact Bobby D. Doctor, Director of the Southern Regional Office, 404-562-7000 (TDD 404-562-7004). Hearing-impaired persons who will attend the meeting and require the services of a sign language interpreter should contact the Regional Office at least ten (10) working days before the scheduled date of the meeting.

The meeting will be conducted pursuant to the provisions of the rules and regulations of the Commission.

Dated at Washington, DC, March 1, 2002.
Ivy L. Davis,
Chief, Regional Programs Coordination Unit.

[FR Doc. 02-5391 Filed 3-6-02; 8:45 am]

BILLING CODE 6335-01-P